DEPARTMENT OF COMMERCE

National Oceanic and Atmospheric Administration

RIN 0648-XP83

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Regional Administrator, Southwest Region, NMFS, has made a preliminary determination that an application for an Exempted Fishing Permit (EFP) warrants further consideration. The application was submitted by members of the Pacific sardine fishing industry and requests an exemption from commercial quotas in order to conduct a survey to obtain a estimate of the population of Pacific sardine. NMFS requests public comment on the application.

DATES: Comments must be received by July 14, 2009.

ADDRESSES: You may submit comments on this notice identified by 0648-XP83 by any one of the following methods:

• Mail: Rodney R. McInnis, Regional Administrator, Southwest Region, NMFS, 501 West Ocean Blvd., Suite 4200, Long Beach, CA 90802.

• Fax: (562) 980-4047, Att: Joshua Lindsay

FOR FURTHER INFORMATION CONTACT: A copy of the application can viewed on the Pacific Fishery Management Council's website at http://www.pcouncil.org/cps/cpsefp.html; or contact Joshua Lindsay, Southwest Region, NMFS, (562) 980-4034.

SUPPLEMENTARY INFORMATION: On February 20, 2009, NMFS published a final rule implementing the harvest guideline (HG) and annual specifications for the 2009 Pacific sardine fishing season off the U.S. West Coast (74 FR 7826). These specifications and associated management measures were based on recommendations adopted by the Pacific Fishery Management Council (Council) at their November 2008 public meeting in San Diego, California (73 FR 60680). As part of these management measures the Council recommended, and NMFS approved, that 1,200 metric tons (mt) of the available acceptable biological catch (ABC) be initially subtracted from the ABC and reserved for a potential industry-based research project. This 1,200 mt set-aside was intended to allow research fishing, that had been proposed for the second seasonal period (July 1-September 15, 2009), to continue if that period's allocation is reached and directed fishing is closed. Members of the Pacific sardine fishing industry requested this separate allocation so that they could conduct research fishing activities after fishing is closed because of foreseen difficulties in attempting to have vessels fish for the purposes of research during the normal fishing season.

At the March 2009 Council meeting, the Council reviewed two industry research/EFP proposals to allow access to the 1,200 mt set-aside. Both proposals went forward for public comment with the recommendation from the Council that the proposals be combined to create a single EFP application to be reviewed at the June 2009 Council meeting. After hearing the research proposals and public comment, the Council also recommended, and NMFS issued a Federal Register notice proposing, that the original 1200 mt set-aside be increased to 2400 mt (74 FR 20897).

Sardine industry representatives and scientists have since collaborated on a single proposal and on June 16, 2009, the Council made a final recommendation to NMFS to approve and implement this single EFP application. The goal set forth in the EFP application is the development of an index of biomass for Pacific sardine, with the desire that this index be included in the next Pacific sardine stock assessment. If NMFS decides not to issue this EFP, then the set-aside will be re-allocated to the third period's directed harvest allocation.

Authority: 16 U.S.C. 1801 et seq.

Dated: June 22, 2009.
Kristen C. Koch
Acting Director, Office of Sustainable Fisheries, National Marine Fisheries Service.

[FR Doc. E9-15190 Filed 6-26-09; 8:45 am]

BILLING CODE 3510-22-S